DEPARTMENT OF AGRICULTURE

Forest Service

Siskiyou Resource Advisory Committee (RAC); Notice of Meeting

AGENCY: Forest Service, USDA.

ACTION: Notice of meeting.

SUMMARY: The Siskiyou Resource Advisory Committee (RAC) will meet on Tuesday, August 20, and Wednesday, August 21, 2002. Tuesday's meeting is scheduled to begin at 10 a.m. and conclude at approximately 5 p.m. Wednesday's meeting will begin at 8:30 a.m. and will conclude at approximately 12 noon. The meeting will be held at the Harbor Sanitary District Office, 16408 Lower Harbor Rd., Brookings, Oregon. The tentative agenda for August 20 includes: (1) Review and recommendation of projects for fiscal year 2003 funding and (2) Public Forum. The public forum is tentatively scheduled to begin at 11 a.m. Time allotted for individual presentations will be limited to 3-4 minutes. The tentative agenda for August 21 includes: (1) Review and recommendation of projects for fiscal year 2003 funding (2) Public Forum. The public forum is tentatively scheduled to begin at 9 a.m. Time allotted for individual presentations will be limited to 3-4 minutes. Written comments are encouraged particularly if the material cannot be presented within the time limits for the public forum. Written comments may be submitted prior to the August 20 and 21 meetings by sending them to the Designated Federal Official, Tom Reilly at the address given below.

FOR FURTHER INFORMATION CONTACT: Designated Federal Official Tom Reilly; Rogue and Siskiyou National Forests; P.O. Box 520, Medford, Oregon 97501; (541) 858-2200.

Dated: July 15, 2002.
Tom Reilly,
Acting Forest Supervisor, Rogue River and Siskiyou National Forests.

[FR Doc. 02-18238 Filed 7-18-02; 8:45 am]

BILLING CODE 3410-11-M